DEPARTMENT OF EDUCATION

34 CFR Chapter III

[Docket ID ED-2020-OSERS-0063]

Final Priority and Requirements—Activities for Traditionally Underserved Populations

AGENCY: Office of Special Education and Rehabilitative Services (OSERS), Department of Education.

ACTION: Final priority and requirements.

SUMMARY: The Department of Education (Department) announces a priority and requirements under the Rehabilitation Act of 1973, as amended (Rehabilitation Act) for Activities for Traditionally Underserved Populations, Assistance Listing Number 84.315C. The Department may use this priority and requirements for competitions in fiscal year (FY) 2021 and later years. We take this action to focus attention on an identified national need to fund activities for traditionally underserved populations. Awards will be made to minority entities and Indian Tribes to conduct research, training and technical assistance, and related activities to improve services under the Rehabilitation Act, especially services provided to individuals from minority backgrounds. As defined in the Rehabilitation Act, a minority entity means an entity that is a historically Black college or university, a Hispanic-serving institution of higher education, an American Indian tribal college or university, or another institute of higher education whose minority student enrollment is at least 50 percent.

DATES: This priority and these requirements are effective May 13, 2021.

FOR FURTHER INFORMATION CONTACT: Kristen Rhinehart-Fernandez, U.S. Department of Education, 400 Maryland Avenue SW, Room 5094, Potomac Center Plaza, Washington, DC 20202-2800. Telephone: (202) 245-6103. Email: Kristen.Rhinehart@ed.gov.

If you use a telecommunications device for the deaf (TDD) or a text telephone (TTY), call the Federal Relay Service (FRS), toll free, at 1-800-877-8339.

SUPPLEMENTARY INFORMATION: Purpose of Program: Activities for Traditionally Underserved Populations are designed to improve the quality, access, delivery of services, and the outcomes of those services under the Rehabilitation Act, especially services provided to individuals with disabilities from minority backgrounds, and also to increase the capacity of minority entities and Indian tribes to participate in activities funded under the Act.

Program Authority: 29 U.S.C. 718(b)(2)(B).

We published a notice of proposed priority and requirements (NPP) for this program in the Federal Register on July 22, 2020 (85 FR 44247). That document contained background information and our reasons for proposing the particular priority and requirements.

Except for minor editorial and technical revisions for grammar and clarity and one substantive change explained in the Analysis of Comments and Changes that follow, there are no differences between the proposed priority and requirements and this final priority and requirements.

Note: Projects will be awarded and must be operated in a manner consistent with the nondiscrimination requirements contained in Federal civil rights laws.

Public Comment: In response to our invitation in the NPP, six parties submitted comments on the proposed priority and requirements.

Generally, we do not address technical and other minor changes or suggested changes the law does not authorize us to make. We group major issues according to subject and discuss substantive issues under each of the titles under the priority and requirements to which they pertain. In addition, we do not address general comments that raise concerns not directly related to the proposed priority or requirements.

Analysis of Comments and Changes: An analysis of the comments and of any changes in the priority and requirements since publication of the NPP follows.

Comment: Three commenters noted that historic disparities among racial and ethnic minorities make this priority particularly relevant and urgent. Commenters stated that the impact of these disparities emphasizes the critical need for providing vocational rehabilitation (VR) services to individuals from traditionally underserved populations. Commenters also asserted that this priority has an obtainable goal that is important for the inclusion of minorities in providing VR services. Further, the commenters elaborated on the importance of advocacy efforts to engage and empower traditionally underserved and underrepresented communities. One commenter emphasized the importance of dismantling racism, ableism, sexism, and bigotry in all forms in the pursuit of cultural change within VR agencies and services.

Discussion: The Department agrees that the priority is critical in addressing racial and ethnic disparities within VR services. Applicants are encouraged to consider all forms of cultural change described in paragraph (c)(1)-(6) of the final priority, under Project Activities, for developing new or modifying existing cultural competency training curricula. However, the focus of this priority is on traditionally underserved populations, especially services provided to individuals with disabilities from minority backgrounds.

Changes: None.

Comment: One commenter noted that empathy, teachability, and open-mindedness are crucial for the successful development of professional-consumer relationships.

Discussion: The Department agrees with the comment and considers empathy, teachability, and open-mindedness to be valuable character traits in the VR profession rather than specific competencies. Applicants are encouraged to consider these character traits, and others, as part of developing new or modifying existing cultural competency training curricula.

Changes: None.

Comment: Some commenters addressed the need for program funding that supports individuals interested in studying VR at minority-serving institutions (MSIs). Commenters expressed a need for both doctoral and graduate level funding to be made available for students at MSIs. Commenters stated that expanding funding to MSIs with VR programs would assist in building a culturally competent VR workforce and reduce the current shortage of diverse VR workforce personnel. One commenter specifically recommended funding doctoral programs at MSIs to increase the number of trained university professors from minority backgrounds.

Discussion: The Department agrees with the comments related to the necessity of funding VR training programs that serve minorities. The Department currently funds Rehabilitation Long Term Training (RLTT) programs at Historically Black Colleges and Universities (HBCUs) and Hispanic Serving Institutions (HSIs) that are specifically designed to provide training in VR for those seeking graduate level degrees. Under Assistance Listing Number 84.129, the Department awarded five RLTT grants to HSIs and two grants to HBCUs in FY 2019 and, in FY 2020, the Department awarded six RLTT grants to HSIs and five grants to HBCUs. This final priority, however, requires the dissemination of training materials for incorporation into existing curricula, the analysis of data collected, evidence-based and promising practices, and lessons learned to a variety of stakeholders, including RLTT programs. The broad distribution of training materials makes them available to VR university professors and instructors, including at MSIs.

Changes: None.

Comment: One commenter noted that it would be valuable to establish an anonymous yearly performance evaluation tool for VR counselors to gather consumer feedback. The commenter suggested that consumer feedback could be used to evaluate the success or failure of cultural competency training among VR professionals and evaluate consumer job placement.

Discussion: The Department appreciates this suggestion. The priority outlines a similar evaluation approach under Project Activities, paragraph (j)(2), which states the grantee must assess whether the application of cultural competency practices led to improvements in policies, approaches, and behaviors in State VR agencies through the use of voluntary focus groups or another confidential approach. There are multiple approaches that a grantee could use to gather anonymous and/or confidential consumer feedback in the performance evaluation process, and an applicant's incorporation of an approach, such as the one suggested by the commenter, would be consistent with the project activities.

Changes: None.

Comment: One commenter noted that the focus areas listed in the priority, under Project Activities, paragraph (h)(2)(i)-(iv), are all beneficial, but some may hold more importance than others. The commenter explained that the varying degree of importance for each topic area is dependent on the data collected regarding successful and unsuccessful closures and identified disparities among minority VR participants at respective VR agencies. The commenter asserted that each VR agency is exposed to a unique and varying categorization of inequalities, which affect the specific needs of the VR agencies and ultimately influence the data collection process. The commenter expressed concern about the limitation of the focus areas and the ability to formulate solutions for identified inequalities from the collected data. To remedy the problem, the commenter recommended linking the data collection process and the focus areas to best resolve and address inequalities within VR agencies. In doing so, the grantee would be able to identify how the focus areas directly remedied inequalities within VR agencies.

Discussion: The Department agrees with the commenter that examining reasons for successful and unsuccessful closures among minority VR program participants and identifying disparities between minority and non-minority consumers, as described in the priority under Project Activities, paragraph (h)(1), should inform the selected focus areas. However, applicants may also be able to use other sources of data to inform their selections. For example, under Project Activities, paragraph (a), applicants must collect and analyze data, including from the RSA-911 and other relevant credible sources, about the minority populations and subpopulations identified in the application. The Department acknowledges that by requiring applicants to select two areas of focus in the application, they will have to do so with limited opportunity to consider all potential sources of data, including successful and unsuccessful closures, to make informed selections. Therefore, the grantee will work with the assigned project officer to identify any adjustments to planned approaches and activities, based on data collected post award, to the selected focus areas.

Changes: None.

Comment: One commenter noted the importance of focusing on fostering regular interactions with professionals and other individuals from diverse cultural backgrounds to allow a greater understanding of the needs of underserved populations and barriers to employment.

Discussion: The Department agrees with the commenter's remarks. Informed interactions between VR counselors and paraprofessionals, human resource and professional development specialists, and consumers from traditionally underserved populations are described in the priority under Project Activities. First, focus area (h)(2)(ii) emphasizes establishing new partnerships and strengthening existing partnerships with community rehabilitation providers, workforce programs, and other relevant local community agencies to better meet the needs of individuals with disabilities from minority backgrounds. Second, focus area (h)(2)(iv) speaks to creating opportunities to involve participants from minority populations or subpopulations in the establishment of policies and procedures that encourage collaboration between State VR agencies and other State agencies. These two focus areas encourage and facilitate strong partnerships between individuals with disabilities from minority backgrounds and State VR agencies.

Changes: None.

Comment: One commenter asked for clarification on whether cultural competency training and focus area activities are connected and questioned if they should build upon each other. The commenter discussed the limitations of training counselors in cultural competency without the VR agency fully embracing cultural competency. The commenter stressed the importance of connecting cultural competency training and agency-level focus areas and recommended adding a focus area to emphasize this connection.

Discussion: The Department agrees that it is important to connect cultural competency training at the participant level and at the agency level. However, we do not believe that this concept warrants its own focus area, because it is woven throughout the priority in the following ways: (1) Under Project Activities, paragraph (e), requiring, as part of the training, that participants develop action plans to continue applying the knowledge, practices, and awareness gained from the training in their respective work settings; (2) under Project Activities, paragraph (g)(6), assessing participant progress towards completing their action plans and providing coaching to address issues or challenges, as needed; and (3) under Project Activities, paragraph (h), enabling State VR agencies to apply cultural competency practices to various activities of State VR agencies. These project activities allow for cultural competency training to create change at the participant level and the State VR agency level, which demonstrates the necessary connection between the two entities.

Changes: None.

Comment: One commenter noted the cost and level of effort for specific activities in the priority. The commenter highlighted the following three focus areas described in the priority under Project Activities, paragraph (h)(2), for their multiyear involvement and potentially high cost: Establishing new partnerships and strengthening existing partnerships, developing business engagement activities, and creating opportunities to involve participants from minority backgrounds. The commenter also referenced providing training and technical assistance on an ongoing basis and noted that the link between these activities and the outcomes may be longer term in nature.

Discussion: The Department acknowledges concerns about cost and level of effort for some of the focus areas and agrees that outcomes resulting from the training and technical assistance may be longer term in nature. However, with regard to providing training and technical assistance under paragraph (h)(2)(ii)-(iv), the priority states that the grantee must develop products, offer communities of learning, conduct webinars, and offer other training and technical assistance on delivery methods, as appropriate, related to paragraph (h)(1) and (2) and provide follow-up to State VR agencies to support the sustainability of cultural competency practices. Therefore, training and technical assistance should be developed and delivered in a manner that allows for participation from many State VR agencies. Applicants are encouraged to select focus areas based on their subject area expertise and level of effort and allow for the most cost-effective options for developing and delivering training and technical assistance. As stated under Application Requirements, paragraph (c) “Adequacy of Project Resources,” proposed costs should be reasonable in relation to the anticipated results and benefits.

Changes: None.

Comment: One commenter recommended expanding cultural competency training to management and leadership personnel rather than limiting the training to VR counselors and paraprofessionals, and human resource and professional development specialists as described in the priority. The commenter explained that management and leadership professionals within VR agencies are well positioned to influence system and structural inequalities. The commenter noted that structural inequalities within service culture and general lack of trust within VR agencies could best be addressed by management and leadership personnel. The commenter recommended incorporating the involvement of management and leadership personnel in cultural competency training to effectively reduce agency-level inequality and stimulate effective implementation of learned strategies.

Discussion: The Department agrees with this comment. We support involvement of management and leadership personnel in cultural competency training and believe it will encourage the participation of VR counselors and paraprofessionals, and human resource and professional development specialists in cultural competency training. Management and leadership personnel likely will sustain the practices learned through cultural competency training and ensure that they are applied to VR agency-level policies. Sustainability is key to implementing government-funded projects after the funding period has expired. Incorporating management and leadership personnel in training activities will help maintain sustainability at State VR agencies and ensure participation in cultural competency trainings.

Changes: We have expanded the list of participants expected to receive cultural competency training to include management and leadership personnel under Project Activities and Application Requirements. Participants include VR counselors and paraprofessionals, human resource and professional development specialists, and VR management and leadership personnel working in State VR agencies and related agencies.

Comment: One commenter suggested that initial data collection activities should take place before identifying the specific competencies that VR counselors and paraprofessionals, and human resource and professional development specialists, should be able to demonstrate after successfully completing cultural competency training. The commenter asserted that gathering input and feedback from a diverse group of stakeholders and subject matter experts to inform curricula is a critical phase in developing specific competency indicators.

Discussion: The Department agrees that gathering input and feedback from a diverse group of stakeholders and subject matter experts will inform the training curricula and will serve as a valuable tool in developing specific competency indicators. However, the Department disagrees that initial data collection activities, input, and feedback should take place before the identification of specific competencies that VR counselors and paraprofessionals and human resource and professional development specialists should be able to demonstrate after successful completion of cultural competency training. Under Application Requirements, “Significance of the Proposed Project,” paragraph (a)(4)(i), applicants must describe the cultural competencies that VR counselors and paraprofessionals, human resource and professional development specialists, and VR management and leadership personnel must demonstrate to provide high-quality services to individuals with disabilities from minority backgrounds. The Department believes there is enough reference material to help inform applicants in identifying competencies for this project. The Department encourages applicants to examine existing research materials regarding cultural competency in the workplace. More information can be found in the Background section of the NPP. Upon award, the grantee will work with the assigned project officer to identify revisions or adjustments to the competencies described in the application, as needed, based on data collected and input and feedback gathered from diverse stakeholders, subject matter experts, and each pilot, during the first year of the project. Under Project Activities, paragraphs (d) and (f), the Department will clarify that input and feedback from a diverse group of stakeholders and subject matter experts and from the pilot may inform the competencies.

Changes: We added “competencies” under Project Activities, paragraph (d), to the list of items that will be informed by the input and feedback from stakeholders. Further, we added “and competencies” under Project Activities, paragraph (f), with respect to the items to which grantees must make revisions, as necessary.

Comment: One commenter discussed order of selection within VR agencies. The commenter suggested that VR agencies are likely to implement order of selection over the next few years. The commenter expressed concern that implementing an order of selection could further limit access to VR services for traditionally underserved populations.

Discussion: The Department appreciates the commenter's concern regarding the effect of the potential implementation of an order of selection by VR agencies for VR services for traditionally underserved populations. According to section 101(a)(5) of the Rehabilitation Act, as amended by title IV of the Workforce Innovation and Opportunity Act, and 34 CFR 361.36(a)(1), State VR agencies are required to implement an order of selection if they anticipate that they will not have sufficient fiscal or personnel resources to fully serve all eligible individuals. A State VR agency's decision to establish and implement an order or selection would not limit access to VR services for individuals with disabilities from traditionally underserved populations so long as those individuals are determined eligible for VR services and assigned to an open category under the VR agency's order of selection policy. Under an order of selection, individuals with the most significant disabilities are selected and assigned to the first priority category to be served, followed in order by additional priority categories determined by the VR agency for those with significant disabilities and individuals with disabilities. To the extent that individuals with disabilities from traditionally underserved populations are determined eligible for VR services and are assigned to open categories, they will be served alongside those who are not from underserved populations. Finally, it is important to note that not all VR agencies are implementing an order of selection and those who are may open and close priority categories as resources permit.

Changes: None.

Comment: One commenter recommended expanding cultural competency training to include personnel working for VR agencies, specifically community rehabilitation providers and identified business partners.

Discussion: The Department appreciates the commenter's suggestion. In paragraph (h)(2), under Project Activities, applicants must select two focus areas. Under focus area (h)(2)(ii), applicants must establish new partnerships and strengthen existing partnerships with community rehabilitation providers, workforce programs, and other relevant local community agencies and organizations to better meet the needs of individuals with disabilities from minority backgrounds. Further, under focus area (h)(2)(iii), applicants must develop business engagement activities for individuals with disabilities from minority backgrounds. Applicants may choose to extend cultural competency training to community rehabilitation providers and other identified business partners under focus areas (h)(2)(ii) and (iii).

Changes: None.

Comment: Two commenters recommended additional content areas that should be considered in cultural competency training. These included the effects of trauma and the effects of poverty on traditionally underserved populations. One commenter recommended trauma training for VR professionals to understand the role that trauma plays in the context of race, national origin, immigration status, and disability. The commenter stressed that trauma training would improve relationships between VR professionals and consumers from traditionally underserved populations. Another commenter encouraged RSA to incorporate the effects of poverty on underserved populations in cultural competency training curriculum. The commenter explained that working with individuals who are living in poverty requires its own form of cultural competency. Furthermore, the commenter stressed that understanding poverty among minority populations is crucial to reducing systemic barriers to accessing and receiving VR services and ultimately gaining successful employment. The focus on training in trauma and poverty outlines the increased need for trust, understanding, and rapport between VR counselors and consumers.

Discussion: The Department agrees that the intersection of topics such as trauma and poverty are important and critical to the development of cultural competency curriculum. In FY 2015, the Department funded the Vocational Rehabilitation Technical Assistance Center: Targeted Communities (VRTAC-TC)—Project E3. This program was specifically designed to empower people with disabilities from underserved and unserved communities and help them achieve their independent living and employment goals. The goal of Project E3 was to provide State VR agencies and their partners with the skills and competencies needed to effectively and efficiently address barriers to competitive integrated employment and community integration encountered by persons with disabilities from economically disadvantaged targeted communities and high-leverage groups with national applicability. To learn more about Project E3, please visit the website (https://projecte3.com/). Applicants may incorporate topics such as trauma and poverty into the cultural competency curriculum, as well as other relevant topics, they deem critical to the project. For example, in the priority, under Project Activities, paragraph (c), applicants must develop new or modify existing cultural competency training curricula for VR counselors and paraprofessionals and human resource and professional development specialists working in State VR agencies and related agencies. To satisfy this requirement, the curricula must include other critical content as determined by the project, which could include poverty or trauma.

Changes: None.

Comment: One commenter requested clarification on whether RSA requires the applicant to identify a specific minority population that will be the focus of cultural competency training.

Discussion: The Department appreciates the commenter's question. Applicants must identify one or more minority population(s) and subpopulation(s) that will be the focus of the cultural competency training. Under Project Activities, paragraph (a), applicants must collect and analyze data about the minority populations and subpopulations identified in the application, and in paragraph (b) applicants must share the data about the identified minority populations and subpopulations. Applicants are strongly encouraged to incorporate foundational concepts, definitions, principles, and practices that address structural and systemic racism more broadly in the cultural competency training including history, relevant experiences, and subject matter expertise, as appropriate. Applicants may refer to Project Activities, paragraph (c), for further details about the content of the training.

Changes: None.

Application Requirements

Comment: One commenter expressed concern regarding a cost-sharing requirement as well as an eight percent limitation on indirect costs and the disadvantage this may create for applicants representing MSIs. The commenter explained that MSIs are currently confronting significant uncertainty because of the COVID-19 pandemic, which could result in a low yield of applicants from MSIs for this competition. The commenter also noted that the short turnaround time on grant application materials could further limit applications.

Discussion: The Department appreciates the concern regarding a possible cost share requirement and recognizes that this could result in a disadvantage for minority entities in this competition. As reflected in the notice inviting applications (NIA) for this program, published elsewhere in this issue of the Federal Register, there is no cost share or matching requirement for this competition. In addition, also as reflected in the NIA, the Department has determined that the applicable indirect cost rate for this grant is an unrestricted indirect cost rate, rather than the eight percent indirect cost rate for educational training grants. Finally, the deadline for transmittal of applications is 60 days from the date of publication in the Federal Register.

Changes: None.

Comment: One commenter raised a question concerning training versus technical assistance for this priority. The commenter noted that training is a crucial aspect of the “Quality of Project Design” section under the Proposed Application Requirements. The commenter also noted that technical assistance (TA) is mentioned in the “Quality of Project Design” section and questioned whether technical assistance refers to universal TA or targeted TA activities. The commenter asked whether intensive TA activities would be considered for this priority.

Discussion: The purpose of this project is to improve the delivery of VR services to, and the employment outcomes of, individuals with disabilities from minority backgrounds. This project is not a training and technical assistance center, and the goal of this project is not to provide intensive, targeted, or universal technical assistance. Rather, applicants should focus project design efforts on describing how cultural competency training will be provided to VR counselors and paraprofessionals, and human resource and professional development specialists working in State VR agencies. Under Project Activities, paragraph (h)(3), applicants must develop products, offer communities of learning, conduct webinars, and offer other training and technical assistance delivery methods, as appropriate. It is at the applicant's discretion to select technical assistance delivery methods that will achieve the intended outcomes of the project.

Changes: None.

Technical Changes

Comment: None.

Discussion: We are revising the priority and requirements to accurately reflect that all material produced by the project must be accessible to individuals with disabilities in accordance with section 504 of the Rehabilitation Act and title II of the Americans with Disabilities Act, as applicable.

Changes: We have revised Project Activities, paragraph (k)(2), and Application Requirements, “Adequacy of Project Resources,” paragraph (c)(2), to reflect this change.

Comment: None.

Discussion: We are revising the Regulatory Flexibility Act Certification section to accurately reflect that the small entities that this regulatory action will affect are minority entities and Indian Tribes, which are the eligible applicants for this competition.

Change: We have revised the types of small entities listed in the Regulatory Flexibility Act Certification section.

Comment: None.

Discussion: We are revising the language regarding nondiscrimination requirements and we are moving it into the Department's standard language to convey its general applicability.

Change: Under Application Requirements, “Quality of Project Personnel” we have removed paragraph (d)(2). Under Program Authority, we added a note stating that projects will be awarded and must be operated in a manner consistent with the nondiscrimination requirements contained in Federal civil rights laws.

Comment: None.

Discussion: Executive Order 13985, “Advancing Racial Equity and Support for Underserved Communities Through the Federal Government,” (86 FR 7009) issued January 20, 2021, states, “Affirmatively advancing equity, civil rights, racial justice, and equal opportunity is the responsibility of the whole of our Government. Because advancing equity requires a systematic approach to embedding fairness in decision-making processes, executive departments and agencies must recognize and work to redress inequities in their policies and programs that serve as barriers to equal opportunity.” This priority addresses equity in providing services by State VR agencies, which is in line with the Executive order. The technical changes described below further align with and support the Executive order. We modified language to be more specific and to strengthen requirements associated with the training curricula so that applicants may formulate training content that will improve cultural competency in State VR agencies under Project Activities, paragraphs (c)(1), (2)(ii), and (2)(iii).

Changes: We have replaced the term “systemic inequalities” with the term “systemic racism” under Project Activities, paragraph (c)(1). We have added the term “dynamics of oppression on an individual” under Project Activities, paragraph (c)(2)(ii). We have added the term “microaggressions” under Project Activities, paragraph (c)(2)(iii).

Final Priority

Improving the Delivery of Vocational Rehabilitation Services to, and the Employment Outcomes of, Individuals With Disabilities From Minority Backgrounds

This priority funds a five-year cooperative agreement to focus on changing the status quo and improving outcomes for individuals with disabilities from minority backgrounds through providing cultural competency training and promoting application for Vocational Rehabilitation (VR) leadership and staff, collecting and analyzing relevant data, evaluating cultural competency training, and disseminating evidence-based practices. VR counselors and paraprofessionals, human resource and professional development specialists, and VR management and leadership personnel working in State VR agencies and related agencies need to be adequately prepared to effectively meet the needs of individuals with disabilities, especially those from minority backgrounds.

Project Activities:

To be considered for funding under this priority, applicants must, at a minimum, propose a project that will conduct the following activities in a culturally appropriate manner:

(a) Collect and analyze data, including from RSA-911 data ¹ and other relevant sources, about the minority populations and subpopulations identified in the application. Data may include, but is not limited to, employment outcomes, earnings, retention, length of time in VR, challenges or barriers to employment and retention, education, and other relevant data, as available;

¹ The RSA-911 collects a variety of participant characteristics (sex, age, race, disability, health insurance, education level, etc.), barriers to employment (ex-offender, homeless, single parent, etc.), services provided (career, training, and other services), duration of VR case, employment status at the time of exit from the program, and employment status post-exit.

(b) Share the data about the identified minority populations and subpopulations with RSA, State VR agencies, RSA VR technical assistance centers, and other relevant partners and stakeholders;

(c) Develop new or modify existing cultural competency training curricula for VR counselors and paraprofessionals, human resource and professional development specialists, and VR management and leadership personnel working in State VR agencies and related agencies. To satisfy this requirement, the curricula must—

(1) Contain knowledge, critical awareness, and skills development that confront structural and systemic racism;

(2) Address:

(i) Actions that lead to change, such as full inclusion and participation in the mainstream of society, an individual's right to pursue a meaningful career, respect for self-determination and informed choice, and competitive employment;

(ii) Exploration of unconscious and conscious biases, privilege, stereotypes, prejudicial attitudes, and the dynamics of oppression on an individual; and

(iii) Examination of microaggressions, service culture, policies and practices, and lack of trust in the State VR agency;

(3) Incorporate principles of person-centered planning;

(4) Incorporate culturally appropriate and culturally sensitive training methods;

(5) Include evidence-based ² content, to the extent possible; and

² For the purpose of this priority, “evidence-based” means the proposed project component is supported, at a minimum, by evidence that demonstrates a rationale (as defined in 34 CFR 77.1), where a key project component included in the project's logic model (as defined in 34 CFR 77.1) is informed by research or evaluation findings that suggest the project component is likely to improve relevant outcomes (as defined in 34 CFR 77.1).

(6) Include other critical content, as determined by the project;

(d) Gather input and feedback from a diverse group of stakeholders and subject matter experts to inform the curricula, competencies, training and application, and evaluation, including RSA, State VR agencies, and other relevant partners;

(e) Require, as part of the training, that participants develop action plans to continue applying the knowledge, practices, and awareness gained from the training in their respective work settings;

(f) Create two cohorts to pilot the cultural competency training by the end of the first year and evaluate the results. The cohorts must be comprised of VR counselors and paraprofessionals, human resource and professional development specialists, and VR management and leadership personnel working in State VR agencies and related agencies. For the first cohort, the grantee must collect pre- and post-assessments and feedback from participants. After the first cohort, the grantee must make revisions and improvements to the training curricula and competencies, as necessary. The grantee must then test the training in a second cohort to determine if the revisions and improvements worked.

(g) Deliver cultural competency training to VR counselors and paraprofessionals, human resource and professional development specialists, and VR management and leadership personnel working in State VR agencies and related agencies in years two, three, four, and five. To meet this requirement, the grantee will—

(1) Conduct outreach to VR counselors and paraprofessionals, human resource and professional development specialists, and VR management and leadership personnel working in State VR agencies and related agencies so that they are aware of, and can participate in, cultural competency training;

(2) Offer training using a variety of methods such as a traditional classroom setting, distance learning facilitated by qualified instructors, regional trainings, and through other delivery methods, as appropriate, to meet the needs of the targeted audience;

(3) Use an online learning platform that is user friendly, compatible with most mobile devices and State VR agency platforms, and meets government and industry-recognized standards for accessibility and cybersecurity;

(4) Use grant funds to offset costs associated with travel for participants, as needed;

(5) Conduct an assessment before and after providing training for each participant to establish baseline knowledge, and assess strengths and specific areas for improvement, attainment, and application of skills, and any issues or challenges to be addressed post-training to ensure improved delivery of VR services to the minority populations and subpopulations identified in the application;

(6) Assess participant progress towards completing their action plans and provide coaching to address issues or challenges, as needed; and

(7) Offer continuing education units (CEUs), Commission on Rehabilitation Counseling Credit (CRCC), Certified Rehabilitation Counselor (CRC) credit, a certificate of completion, or another form of documentation or verification, as appropriate, to participants that successfully complete the training and fulfill their action plans.

(h) Enable State VR agencies to apply cultural competency practices to various activities of State VR agencies. In Assume Nothing! A Monograph from the 38th Institute on Rehabilitation Issues to Address Underserved Populations, Including Individuals Who Are Deaf-Blind (2014), several recommendations were offered to help State VR agencies remove attributes of service design and delivery that may result in inequality. In line with those recommendations, to meet this requirement, applicants must—

(1) Examine reasons for successful and unsuccessful closures among minority VR program participants and identify disparities between minority and non-minority participants; and collaborate and share data on the disparities between minority and non-minority participants with State VR agencies and the VR-TA Center-Quality Management (VRTAC-QM) and VR TA Center-Quality Employment (VRTAC-QE), which began on October 1, 2020, to inform their work with State VR agency personnel to ensure that management decisions are established that support sustainable changes in the way outreach, intake, and VR services are provided based on the cultural competency training VR personnel receive;

(2) Select two of the following focus areas—

(i) Update or revise existing policies and procedures or develop new action plans to strengthen and improve delivery of services in a culturally appropriate and culturally sensitive manner;

(ii) Establish new partnerships and strengthen existing partnerships with community rehabilitation providers, workforce programs, and other relevant local community agencies and organizations (i.e., agencies and organizations that provide services related to behavior and mental health, substance dependence, and intellectual developmental disabilities) to better meet the needs of individuals with disabilities from minority backgrounds;

(iii) Develop business engagement activities for individuals with disabilities from minority backgrounds;

(iv) Create opportunities to involve participants from minority populations, or subpopulations, as appropriate, in the establishment of policies and procedures that encourage collaboration between State VR agencies and other State agencies;

(v) Develop opportunities for staff development and retention designed to provide new and existing VR counselors and paraprofessionals, human resource and professional development specialists, and VR management and leadership personnel from minority populations and subpopulations with peer-to-peer mentorship, as well as guidance and support they may need to be successful; and

(vi) Any other activity that improves delivery of services to and outcomes for individuals with disabilities from minority backgrounds;

(3) Develop products, offer communities of learning, conduct webinars, and offer other training and technical assistance delivery methods, as appropriate, related to (1) and (2) above; and

(4) Follow up with State VR agencies to support the sustainability of cultural competency practices;

(i) Gather input and feedback from a diverse group of stakeholders and subject matter experts to inform the training curricula, application of cultural competency practices in each selected area of focus, the evaluation, the products developed, and the collaborative work with RSA, State VR agencies, and other relevant partners;

(j) Evaluate the project. To satisfy this requirement, the grantee must—

(1) Assess whether cultural competency training provided to VR counselors and paraprofessionals, human resource and professional development specialists, and VR management and leadership personnel working in State VR agencies and related agencies contributed to improvements in the delivery of services to and employment outcomes for individuals with disabilities from minority backgrounds;

(2) Assess whether the application of cultural competency practices led to improvements in policies, approaches, and behaviors in State VR agencies;

(3) Through voluntary focus groups, use of a unique identifier, or another approach that adheres to participant confidentiality requirements in 34 CFR 361.38, gather input and feedback from VR program participants who identify as members of the minority populations or subpopulations described in the application about their experiences to assess whether the cultural competency training and application of cultural competency practices contributed to improvements in the delivery of service; and

(4) Develop a plan for an evaluation that includes, but is not limited to, approaches and methodologies, timelines, instruments, or tools that will be used, a timeline for the evaluation and measurement benchmarks, and a process for gathering feedback from VR counselors and paraprofessionals, human resource and professional development specialists, VR management and leadership personnel, and State VR agencies for continuous improvement throughout years two, three, four, and five of the project;

(k) Develop and maintain a state-of-the-art archiving and dissemination platform, or modify an existing platform, that is open and available to all VR counselors and paraprofessionals, human resource and professional development specialists, VR management and leadership personnel, and State VR agencies. To meet this requirement, the grantee must—

(1) Ensure the archiving and dissemination platform provides a central location for all materials related to the project, such as data collection, reports, training curricula, audiovisual materials, webinars, communities of learning, examples of evidence-based and promising practices related to the selected areas of focus, and other relevant material;

(2) Ensure that all materials developed by the project are accessible to individuals with disabilities in accordance with section 504 of the Rehabilitation Act and title II of the Americans with Disabilities Act, as applicable;

(3) Disseminate information about the project, including products such as outreach, training curricula, presentations, reports, outcomes, and other relevant information through RSA's National Clearinghouse of Rehabilitation Training Materials (NCRTM) (https://ncrtm.ed.gov/);

(4) In the final year budget period, ensure the archiving and dissemination platform can be sustained or coordinate with RSA to transition the platform to the NCRTM so that it may be archived and accessible to all after the grant ends;

(5) Disseminate, to all State VR agencies, RSA-funded Rehabilitation Long-Term Training projects and TA Centers, Department-funded programs, and Federal partners, as applicable, the training material for incorporation into existing curricula, as well as products, analysis of data collected, evidence-based and promising practices, and lessons learned. To satisfy this requirement, the grantee must—

(i) Develop participant guides, implementation materials, toolkits, manuals, and other relevant material for instructors, facilitators, State VR agency directors, and human resource and professional development specialists to effectively deliver cultural competency training, in their respective organizations; and

(ii) Provide outreach to and support State VR agencies, RSA-funded Rehabilitation Long-Term Training projects and TA Centers, Department-funded programs, and Federal partners, as applicable, in incorporating or expanding cultural competency training and in applying cultural competency practices across selected focus areas.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)), or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Application Requirements:

The Assistant Secretary establishes the following requirements for this priority. We may apply these requirements in any year in which this priority is in effect.

Application Requirements of Priority:

To be considered for funding under this priority, applicants must, at a minimum, propose a project that will conduct the following activities in a culturally appropriate manner. The Department encourages innovative approaches to meet these requirements. Applicants must—

(a) Demonstrate, in the narrative section of the application under “Significance of the Proposed Project,” the minority populations and subpopulations that will be addressed by this project. To meet this requirement, applicants must—

(1) Describe the disparities that exist with respect to VR services and employment outcomes for individuals with disabilities from minority backgrounds, identify education and training needs and any challenges to obtaining education and employment, and present any relevant data;

(2) Describe how the project proposes to improve VR services for, and employment outcomes of, individuals with disabilities from the identified minority backgrounds and subpopulations;

(3) Describe how data about the identified minority populations and subpopulations will be collected and analyzed to inform the field and the training curricula;

(4) Demonstrate how the proposed project will increase the number of VR counselors and paraprofessionals, human resource and professional development specialists, and VR management and leadership personnel trained in providing culturally competent VR services. To meet this requirement, applicants must—

(i) Describe the cultural competencies that VR counselors and paraprofessionals, human resource and professional development specialists, and VR management and leadership personnel must demonstrate to provide high-quality services to individuals with disabilities from minority backgrounds; and

(ii) Present information about potential challenges or difficulties to effectively provide cultural competency training and to apply cultural competency practices and any evidence-based practices or strategies that may be used to address these challenges;

(b) Demonstrate, in the narrative section of the application under “Quality of Project Design,” how the proposed project will meet the requirements and intended outcomes of this priority. To meet this requirement, applicants must—

(1) Describe the plan for implementing the project, including key activities, timelines, milestones, and measurable intended project outcomes. The plan should contain adequate time to develop and pilot the training curricula, as well as develop content to support the selected areas of focus. The plan should also build in alternative ways to deliver training and conduct participant follow-up, in the event that convening face-to-face is not possible due to health and safety concerns;

(2) Describe how the proposed project will gather input and feedback from a diverse group of stakeholders and subject matter experts to inform the curricula, training and application, and evaluation, including communication and coordination with RSA, State VR agencies, and other relevant partners. The plan must include alternative forms of communication if in-person meetings are not permitted due to health safety and concerns;

(3) Describe how the proposed project will provide outreach to VR counselors and paraprofessionals, human resource and professional development specialists, and VR management and leadership personnel working in State VR agencies and related agencies so that they are aware of, and can participate in, cultural competency training;

(4) Describe how cultural competency training will be provided to VR counselors and paraprofessionals, human resource and professional development specialists, and VR management and leadership personnel working in State VR agencies and related agencies, which must include—

(i) Proposed methods, frequency, and duration of the training;

(ii) A proposed methodology for determining training topics;

(iii) A description of how the training needs of recipients, including their ability to respond effectively to the training will be assessed;

(iv) Proposed coaching techniques that may be provided to VR counselors and paraprofessionals, human resource and professional development specialists, and VR management and leadership personnel working in State VR agencies or related agencies to address issues or challenges, as needed;

(v) A proposed training module or an outline of a training module to demonstrate how VR counselors and paraprofessionals, human resource and professional development specialists, and VR management and leadership personnel would be trained. The module or outline is a required attachment in the application and must include, at a minimum—

(A) The goals and objectives of the training module;

(B) A description of what participants should know and be able to do as a result of successfully completing the module or presentation;

(C) Up-to-date resources, publications, and other materials that may be used to develop the training module or outline;

(D) Exercises that will provide an opportunity for application of the subject matter;

(E) A description of how participant knowledge, skills, and abilities will be measured; and

(F) A description of how the outcomes and impact of the cultural competency training will be measured;

(5) Describe how the project will incorporate current research and evidence-based and promising practices, including research about adult learning principles and implementation science, in the development of culturally competent training curricula and enable State VR agencies to apply cultural competency practices to various activities of State VR agencies;

(6) Describe how the project will examine reasons for successful and unsuccessful closures among individuals with disabilities from minority backgrounds, identify disparities between minority and non-minority participants, and describe how this information will be shared with State VR agencies and the VRTAC-QM and VRTAC-QE in ways that will inform their work with State VR agency personnel to ensure that management decisions are established that support sustainable changes in the way outreach, intake, and VR services are provided based on the cultural competency training VR personnel receive;

(7) Select two focus areas from the list described in the priority and develop products, offer communities of learning, conduct webinars, and offer other training and technical assistance delivery methods that are of high quality and of sufficient intensity and duration to achieve the intended outcomes of the proposed project. To meet this requirement, applicants must describe—

(i) Knowledge, skills, and experience in each of the selected areas of focus;

(ii) Methods, frequency, and duration of the activities;

(iii) Proposed methodology for determining selected areas of focus; and

(iv) How follow-up will be provided to State VR agencies to support the sustainability of cultural competency practices within the selected areas of focus; and

(8) Describe how the proposed project will use accessible technology to achieve the intended project outcomes.

(c) Demonstrate, in the narrative section of the application under “Adequacy of Project Resources,” how the proposed costs are reasonable in relation to the anticipated results and benefits. In order to meet this requirement, applicants must—

(1) Describe any proposed consultants or contractors named in the application, their areas of expertise, and provide rationale to demonstrate the need;

(2) Describe costs associated with technology, including, but not limited to, maintaining an online learning platform, state-of-the-art archiving and dissemination platform, and communication tools (i.e., Microsoft Teams, Zoom, Google, Amazon Chime, Skype, etc.) ensuring all products and services are accessible to individuals with disabilities in accordance with Section 504 of the Rehabilitation Act and Title II of the Americans with Disabilities Act, as applicable;

(3) Designate funds to travel to Washington, DC, or for virtual conferences and meetings when the in-person meetings are not possible due to health and safety concerns, in the beginning of the second year of the project for a one and one half day meeting to present an analysis of the pilots, training curricula, delivering additional activities in the selected focus areas, and plans for outreach, dissemination, and evaluation of the project; and

(4) Designate funds to travel to Washington, DC, or virtual conferences and meetings when in-person meetings are not possible due to health and safety concerns, in the final year of the project for a one and one half day meeting to present an analysis of data collected, outcomes, results of the evaluation, evidence-based and promising practices, and lessons learned;

(d) Demonstrate, in the narrative section of the application under “Quality of Project Personnel,” how—

(1) The proposed project will encourage applications for employment from persons who are members of groups that have historically been underrepresented based on race, color, national origin, gender, age, or disability, as appropriate;

(2) The proposed key project personnel will demonstrate the qualifications and experience to provide the training required under this priority and to achieve the project's intended outcomes, including how the proposed project personnel have a degree of knowledge and understanding of cultural factors sufficient to ensure the delivery of training in a culturally appropriate manner; and

(3) The proposed project personnel will demonstrate knowledge and experience working with the VR profession, especially in the provision of services to individuals from minority backgrounds and in working with VR counselors, paraprofessionals, human resource and professional development specialists, and State VR agencies;

(e) Demonstrate, in the narrative section of the application under “Quality of the Management Plan,” how the applicant will ensure that—

(1) The project's intended outcomes, including the evaluation, will be achieved on time and within budget, through—

(i) Clearly defined responsibilities of key project personnel, consultants, and contractors, as applicable;

(ii) Procedures to track and ensure completion of the action steps, timelines, and milestones established for key project activities, requirements, and deliverables;

(iii) Internal monitoring processes to ensure that the project is being implemented in accordance with the established application, cooperative agreement, once developed, and project plan; and

(iv) Internal financial management controls to ensure accurate and timely obligations, drawdowns, and reporting of grant funds, as well as monitoring contracts, in accordance with the Uniform Administrative Requirements, Cost Principles, and Audit Requirements for Federal Awards at 2 CFR part 200 and the terms and conditions of the Federal award;

(2) The allocation of key project personnel, consultants, and contractors, as applicable, including levels of effort of key personnel that are appropriate and adequate to achieve the project's intended outcomes, including an assurance that key personnel will have enough availability to ensure timely communications with stakeholders and RSA;

(3) The products and services are of high quality, relevance, and usefulness, in both content and delivery; and

(4) The proposed project will benefit from a diversity of perspectives, including those of State and local personnel, individuals with disabilities from minority backgrounds, providers, researchers, and policy makers, among others, in its development and operation.

This document does not preclude us from proposing additional priorities, requirements, definitions, or selection criteria, subject to meeting applicable rulemaking requirements.

Note: This document does not solicit applications. In any year in which we choose to use one or more of these priorities and requirements we invite applications through a notice in the Federal Register.

Executive Orders 12866 and 13563

Regulatory Impact Analysis

Under Executive Order 12866, OMB must determine whether this regulatory action is “significant” and, therefore, subject to the requirements of the Executive order and subject to review by the OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority and requirements only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities. The costs also include the time and effort in responding to the priority and requirements for entities that choose to respond.

Intergovernmental Review: This program is subject to Executive Order 12372 and the regulations in 34 CFR part 79. One of the objectives of the Executive order is to foster an intergovernmental partnership and a strengthened federalism. The Executive order relies on processes developed by State and local governments for coordination and review of proposed Federal financial assistance. The Executive order does not apply to Indian Tribes.

This document provides early notification of our specific plans and actions for this program.

Regulatory Flexibility Act Certification: The Secretary certifies that this final regulatory action would not have a significant economic impact on a substantial number of small entities. The U.S. Small Business Administration Size Standards define “small entities” as for-profit or nonprofit institutions with total annual revenue below $7,000,000 or, if they are institutions controlled by small governmental jurisdictions (that are comprised of cities, counties, towns, townships, villages, school districts, or special districts), with a population of less than 50,000.

The small entities that this final regulatory action will affect are minority entities and Indian Tribes, which are the eligible applicants for this program. We believe that the costs imposed on an applicant by the final priority and requirements would be limited to paperwork burden related to preparing an application and that the benefits of the final priority and requirements would outweigh any costs incurred by the applicant. There are very few entities that could provide the type of technical assistance required under the final priority and requirements. For these reasons, the final priority and requirements would not impose a burden on a significant number of small entities.

Paperwork Reduction Act of 1995: The priority and requirements contain information collection requirements that are approved by OMB under OMB control number 1820-0018; the priority and requirements do not affect the currently approved data collection.

Accessible Format: On request to the contact person listed under FOR FURTHER INFORMATION CONTACT, individuals with disabilities can obtain this document in an accessible format. The Department will provide the requestor with an accessible format that may include Rich Text Format (RTF) or text format (txt), a thumb drive, an MP3 file, Braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

David Cantrell,
Deputy Director, Office of Special Education Programs. Delegated the authority to perform the functions and duties of the Assistant Secretary for the Office of Special Education and Rehabilitative Services.

[FR Doc. 2021-07524 Filed 4-9-21; 4:15 pm]

BILLING CODE 4000-01-P